DEPARTMENT OF THE INTERIOR

National Park Service

Notice of Availability of the Draft Revision of the Vacation Cabin Site Policy at Lake Mead National Recreation Area

AGENCY: National Park Service, Interior.

ACTION: Notice of availability.

SUMMARY: The National Park Service announces the availability for public review of the draft revision of the Vacation Cabin Site policy at Lake Mead National Recreation Area.

COMMENTS: Written comments must be postmarked or transmitted by September 1, 2000.

If individuals submitting comments request that their name and/or address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

ADDRESSES: The draft revision of the Vacation Cabin Site policy is available on the Internet at http://www.nps.gov/lame/concessions/vcs.html. Requests for copies and written comments should be sent to Superintendent, Lake Mead National Recreation Area, 601 Nevada Highway, Boulder City, Nevada 89005

FOR FURTHER INFORMATION CONTACT: Concessions Program Management at 702/293-8923.

SUPPLEMENTARY INFORMATION: The last revision of the Lake Mead National Recreation Area Vacation Cabin Site policy occurred in 1992. Cabin site lease extensions expired in 1999 and 2000 and are being reauthorized for a one-year extension upon expiration. When the revised cabin site policy is finalized new permits will be issued for a five year period, the maximum length of time allowed by law. The finalized policy will become part of the permit.

There are three vacation cabin site areas within Lake Mead National Recreation Area. Stewart's Point (54 sites), located along Lake Mead in Nevada, approximately two miles northeast of Rogers Spring. Temple Bar (32 sites), located along Lake Mead in Arizona, approximately one mile southeast of Temple Bar Resort. Katherine (35 sites), located along Lake Mohave in Arizona, approximately two miles north of Katherine Landing.

Dated: July 14, 2000.
Alan O'Neill,
Superintendent, Lake Mead National Recreation Area.

[FR Doc. 00-19474 Filed 8-1-00; 8:45 am]

BILLING CODE 4310-70-P